DEPARTMENT OF DEFENSE

Department of the Army

Final Environmental Assessment (EA) and Finding of No Significant Impact (FNSI) for BRAC 95 Disposal and Reuse of Recreation Center #2, Fayetteville, NC

AGENCY: Department of the Army, DoD.

ACTION: Notice of availability.

SUMMARY: In accordance with Public Law 101-510 (as amended), the Defense Base Closure and Realignment Act of 1990, the Defense Base Closure and Realignment Commission recommended the closure of Recreation Center #2.

The Final EA evaluates the environmental impacts of the disposal and subsequent reuse of the 4.35-acre installation. Alternatives examined in this EA include no action, unencumbered disposal of the property and encumbered disposal of the property. Encumbered disposal refers to transfer or conveyance of property having restrictions on subsequent use as a result of any Army-imposed or legal restraint. Under the no action alternative, the Army would not dispose of property, but would maintain it in a caretaker status for an indefinite period.

DATES: July 16, 2001.

ADDRESSES: Copies of the Final EA and FNSI may be obtained by writing to Mr. Don Conlon, U.S. Army Corps of Engineers—Mobile District, environmental Resources Branch, 109 St. Joseph St., Mobile, Alabama, 36628-0001.

FOR FURTHER INFORMATION CONTACT: Mr. Conlon via phone at (334) 690-2609 or by fax at (334) 690-2605.

SUPPLEMENTARY INFORMATION: While closure of Recreation Center #2 is the Army's primary action, the EA also analyzes the potential environmental effects of reuse as a secondary impact by means of evaluating intensity-based reuse scenarios. The Army's preferred alternative for disposal of the Recreation Center #2 is encumbered disposal, with encumbrances pertaining to easements, threatened and endangered species habitat, lead-based paint and asbestos-containing material.

A Notice of Intent declaring the Army's intent to prepare an EA for the closure of Recreation Center #2 was published in the Federal Register (60 FR 49264, September 22, 1995).

The Final EA and FNSI are available for review at the Corps of Engineers, Mobile District; Cumberland County Library, 300 Maiden Lane, Fayetteville; and the John L. Throckmorton Library, Building #1-3346, Randolph Street, fort Bragg.

Dated: June 7, 2001.
Raymond J. Fatz,
Deputy Assistant Secretary of the Army, (Environment, Safety and Occupational Health) OASA(I&E).

[FR Doc. 01-14948 Filed 6-13-01; 8:45 am]

BILLING CODE 3710-08-M